DEPARTMENT OF AGRICULTURE

Rural Utilities Service

Brazos Electric Power Cooperative, Inc.; Notice of Finding of No Significant Impact

AGENCY: Rural Utilities Service, USDA.

ACTION: Notice of finding of no significant impact.

SUMMARY: The Rural Utilities Service (RUS), an agency delivering the United States Department of Agriculture (USDA) Rural Development Utilities Programs, hereinafter referred to as Rural Development or the agency, has made a finding of no significant impact (FONSI) in connection with the addition and operation of a second 600 megawatt combined-cycle combustion turbine generation facility proposed by Brazos Electric Power Cooperative (Brazos), of Waco, Texas.

ADDRESSES: The FONSI is available for public review at USDA Rural Development, 1400 Independence Avenue, SW., Washington, DC 20250-1571; and at Brazos Electric, 2404 LaSalle Avenue, Waco, Texas 76702-2585. To obtain copies of the FONSI or for further information, contact: Dennis E. Rankin, Environmental Protection Specialist, USDA Rural Development, Utilities Programs, 1400 Independence Avenue, SW., Stop 1571, Washington, DC 20250-1571, Telephone: (202) 720-1953 or e-mail: dennis.rankin@wdc.usda.gov; or David McDaniel, Brazos Electric, 2404 LaSalle Avenue, Waco, Texas 76702-2585, Telephone: (254) 750-6324 or e-mail: dmcdaniel@brazoselectric.com.

SUPPLEMENTARY INFORMATION: Brazos is proposing to construct a second 600 MW gas-fired combined-cycle electric generation station adjacent to Brazos' existing generation station located at Henderson Ranch Road near the Joplin Community in Jack County, Texas. The project will consist of two combustion turbines and heat recovery steam generators and one steam turbine with a water-cooled steam surface condenser.

Any final action by RUS related to the proposed project will be subject to, and contingent upon, compliance with all relevant Federal environmental laws and regulations and completion of environmental review procedures as prescribed by 7 CFR part 1794, Environmental Policies and Procedures.

Dated: August 27, 2008.
James R. Newby,
Assistant Administrator, Electric Programs, Rural Utilities Programs.

[FR Doc. E8-20369 Filed 9-2-08; 8:45 am]

BILLING CODE 3410-15-P